DEPARTMENT OF TRANSPORTATION

Federal Aviation Administration

Notice of Intent To Rule on Application (01-04-C-00-HDN) To Impose and Use the Revenue From a Passenger Facility Charge (PFC) at Yampa Valley Regional Airport, Submitted by the County of Routt, CO

AGENCY: Federal Aviation Administration (FAA), DOT.

ACTION: Notice of Intent to Rule on Application.

SUMMARY: The FAA proposes to rule and invites public comment on the application to impose and use PFC revenue at Yampa Valley Regional Airport under the provisions of 49 U.S.C. 40117 and part 158 of the Federal Aviation Regulations (14 CFR 158).

DATES: Comments must be received on or before October 24, 2001.

ADDRESSES: Comments on this application may be mailed or delivered in triplicate to the FAA at the following address: Alan E. Weichmann, Manager; Denver Airports District Office, DEN-ADO; Federal Administration; 2605 E. 68th Avenue, Suite 224; Denver, CO 80249-6361.

In addition, one copy of any comments submitted to the FAA must be mailed or delivered to Mr. James C. Parker, Director or Aviation, at the following address: Yampa Valley Regional Airport, P.O. Box N, Hayden, Colorado 81639.

Air Carriers and foreign air carriers may submit copies of written comments previously provided to Yampa Valley Regional Airport, under section 158.23 of part 158.

FOR FURTHER INFORMATION CONTACT: Mr. Chris Schaffer, (303) 342-1258; Denver Airports District Office, DEN-ADO; Federal Aviation Administration; 26805 68th Avenue, Suite 224; Denver, CO 80249-6361. The application may be reviewed in person at this same location.

SUPPLEMENTARY INFORMATION: The FAA proposes to rule and invites public comment on the application (01-04-C-00-HDN) to impose and use PFC revenue at Yampa Valley Regional Airport, under the provisions of 49 U.S.C. 40117 and part 158 of the Federal Aviation Regulations (14 CFR part 158).

On September 12, 2001, the FAA determined that the application to impose and use the revenue from a PFC submitted by Routt County, Colorado, was substantially complete within the requirements of section 158.25 of part 158. The FAA will approve or disapprove the application, in whole or in part, no later than December 18, 2001.

The following is a brief overview of the application.

Level of the proposed PFC: $4.50.

Proposed charge effective date: June 1, 2002.

Total Requested for impose and use approval: $150,833,00.

Brief description of proposed projects: Runway 10/28 distance to go signs, snow removal equipment, air carrier apron drainage (glycol containment), master plan update, and Taxiway A rehabilitation and lighting improvements.

Class or classes of air carriers that the public agency has requested not be required to collect PFC's: None.

Any person may inspect the application in person at the FAA office listed above under FOR FURTHER INFORMATION CONTACT and at the FAA Regional Office located at: Federal Aviation Administration, Northwest Mountain Region, Airports Division, ANM-600, 1601 Lind Avenue S.W., Suite 540, Renton, WA 98055-4056.

In addition, any person may, upon request, inspect the application, notice and other documents germane to the application in person at the Yampa Valley Regional Airport.

Issued in Renton, Washington on September 12, 2001.
David A. Field,
Manager, Planning Programming and Capacity Branch, Northwest Mountain Region.

[FR Doc. 01-23784 Filed 9-21-01; 8:45 am]

BILLING CODE 4910-13-M